DEPARTMENT OF THE INTERIOR

National Park Service

Notice of Submission of Study Package to Office of Management and Budget: Opportunity for Public Comment

AGENCY: National Park Service, Department of the Interior, golden Gate National Recreation Area.

ACTION: Notice and request for comments.

ABSTRACT: The National Park Service (NPS) is proposing to conduct survey interviews in year 2001 to identify the market viability and visitor trip planning interests in recreational ferry services accessing Golden Gate National Recreation Areas (GNRA) on San Francisco Bay. The results of these surveys will be used to develop alternative plans for a possible ferry service and forecast potential demand. Intercept and telephone interviews will be carried out at non-park sites (intercept interviews) and with those who possibly currently do not visit those destinations (telephone interviews).

| Estimated number of: Responses | Estimated number of: Burden hours
GGNRA Water shuttle Access Plan: Telephone Interviews (10 min. each) | 1200 | 200
GGNRA Water Shuttle Access Plan: Intercept Interviews at Park Sites (15 min. each) | 1600 | 400
Total | 2800 | 600

SUMMARY: Under provisions of the Paperwork Reduction Act of 1995 and 5 CFR Part 1320, Reporting and Record Keeping Requirements, the National Park Service is soliciting comments on: (a) Whether the collection of information is necessary for the proper performance of the functions of the NPS, including whether the information will have practical utility; (b) the accuracy of the NPS estimate of the burden of the collection of information, including the validity of the methodology and assumptions used; (c) the quality, utility, and clarity of the information to be collected; and (d) how to minimize the burden of the collection of information on those who are to respond, including the use of appropriate automated, electronic, mechanical, or other forms of information technology.

DATES: Public comments will be accepted for 30 days from the date listed at the top of this page of the Federal Register.

SEND COMMENTS TO: Office of Information and Regulatory Affairs of OMB, Attention Desk Officer for the Interior Department, Office and Management and Budget, Washington, DC 20530.

FOR FURTHER INFORMATION CONTACT OR A COPY OF THE STUDY PACKAGE SUBMITTED FOR OMB REVIEW, CONTACT: Michael J. Savidge: Voice: (415) 561-4725, e-mail: michael j savidge@nps.gov.

SUPPLEMENTARY INFORMATION: Title: Golden Gate National Recreation Area Water shuttle Access Plan Resident Surveys.

Bureau Form Number: None.

OMB Number: To be assigned.

Expiration Date of Approval: To be assigned.

Type of Request: Request for new clearance.

Description of Need: The National Park Service needs information to develop plans for alternative modes of access to GGNRA sites, including ferry service.

Automated Data Collection: At the present time, there is no automated way to gather this information, since the information gathering process involves asking visitors and/or the general public to identify characteristics, use patterns, expectations, preferences and perceptions that are relevant to a study of ferry service.

Description of respondents: A sample of individuals who visit GGNRA sites of the National park Service and individuals who do not visit GGNRA sites.

Estimated average number of respondents: up to 1200 (completed telephone interviews); up to 1600 (completed intercept interviews).

Estimated average number of responses: Each respondent will respond only one time, so the number of responses will be the same as the number of respondents.

Estimated average burden hours per response: 10 minutes (telephone); 15 minutes (intercept).

Frequency of Response: 1 time per respondent.

Estimated annual reporting burden: 600 hours.

Dated: August 27, 2001.
Leonard E. Stowe,
Acting Information Collection Clearance Officer, WASO Administrative Program Center, National Park Service.

[FR Doc. 01-27693 Filed 11-2-01; 8:45 am]

BILLING CODE 4310-70-M